DEPARTMENT OF HEALTH AND HUMAN SERVICES

Health Resources and Services Administration

Statutory Requirements and Process Standardization: Maternal, Infant, and Early Childhood Home Visiting (MIECHV) Program Model Eligibility Review

AGENCY: Health Resources and Services Administration (HRSA), Department of Health and Human Services (HHS).

ACTION: Request for public comment.

SUMMARY: HRSA, in partnership with the Administration for Children and Families (ACF) within HHS, oversees the MIECHV Program, which supports voluntary, evidence-based home visiting services during pregnancy and to families with young children up to kindergarten entry. HRSA proposes to standardize a process for also assessing Home Visiting Evidence of Effectiveness (HomVEE)-approved home visiting models against the MIECHV statutory requirements for a model to determine which of the HomVEE-approved models can be used to implement the MIECHV Program.

DATES: Comments on this request for public comment should be received no later than November 26, 2021.

ADDRESSES: Submit your comments to homevisiting@hrsa.gov with “MIECHV Model Eligibility” in the subject line.

SUPPLEMENTARY INFORMATION:

Invitation to comment: HRSA invites comments regarding this notice. To ensure that your comments are clearly stated, please identify the section of this notice that your comments address.

1.0 Background

The MIECHV Program provides voluntary, evidence-based home visiting services to pregnant people and families with young children up to kindergarten entry living in at-risk communities.¹ States, jurisdictions, certain non-profit organizations, and Tribal entities are eligible to receive funding from the MIECHV Program to implement service delivery model(s) that meet statutory requirements, including HHS criteria for evidence of effectiveness.2 3

¹ The MIECHV Program is authorized by Social Security Act, Title V, § 511; Section 50601 of the Bipartisan Budget Act of 2018 (Pub. L. 115-123) (BBA) extended appropriated funding for the MIECHV Program through FY 2022.

² In current practice, HHS uses the HomVEE review to conduct a thorough and transparent review of the home visiting research literature and provide an assessment of the evidence of effectiveness for home visiting program models that target families with pregnant people and children from birth to kindergarten. Information about the HomVEE review is at https://homvee.acf.hhs.gov/.

³ By law, state and jurisdictional awardees must spend the majority of their MIECHV Program grants to implement evidence-based home visiting models, with up to 25 percent of funding available to implement a model that conforms to a promising and new approach to achieving the benchmark areas specified in Social Security Act, Title V, § 511 (d)(1)(A) and the participant outcomes described in Social Security Act, Title V, § 511 (d)(2)(B), has been developed or identified by a national organization or institution of higher education, and will be evaluated through well-designed and rigorous process.

The MIECHV authorizing statute specifies that a model selected by an eligible entity must include certain key components, including that it “conform to a clear consistent home visitation model that has been in existence for at least 3 years and is research-based, grounded in relevant empirically-based knowledge, linked to program determined outcomes, associated with a national organization or institution of higher education that has comprehensive home visitation program standards that ensure high-quality service delivery and continuous program quality improvement.” ⁴ In addition, the MIECHV-funded program must adhere to statutory standards applicable to model use, including adherence “to a clear, consistent model that satisfies the requirements of being grounded in empirically-based knowledge related to home visiting and linked to the benchmark areas specified in [statute] and the participant outcomes described in [statute] related to the purposes of the program.” ⁵ Home visiting programs could not achieve the standards described in the program's authorizing statute without the support of home visiting models.

⁴ Social Security Act, Title V, § 511(d)(3)(A)(i)

⁵ Social Security Act, Title V, § 511(d)(3)(B)

HRSA, in collaboration with ACF, has developed a proposed transparent and standardized process for assessing home visiting service delivery model(s) against statutory requirements to determine model eligibility for implementation through the MIECHV Program. Through this notice, HRSA seeks to provide public notice of the proposed process and gather public comment, including from stakeholders. Since the establishment of this process may affect critical decision-making, and to better understand the implications of these changes for various stakeholders, HRSA seeks public comment on the proposed process for assessing home visiting models against the MIECHV statutory requirements. HRSA will consider these comments in finalizing this process.

2.0 Process for Assessing Eligibility Against Statutory Requirements for a Home Visiting Model

This notice presents statutory requirements for a MIECHV service delivery model and the proposed process to assess home visiting models against each MIECHV statutory requirement. Then, the notice will present the proposed process, with timeline, for collecting information to assess whether the model(s) meet these requirements and therefore can be used to implement the MIECHV Program.

2.1 Model Eligibility Requirements

Requirement | Standard used | Statutory citation of requirement
REQUIREMENT (1): Model is appropriate for voluntary service provision | There is evidence of model effectiveness in a voluntary setting | Social Security Act, Title V, § 511(e)(7)(A).
REQUIREMENT (2): The model conforms to a clear consistent home visitation model | The model conforms to HomVEE's definition of an early childhood home visiting model | Social Security Act, Title V, § 511(d)(3)(A)(i)(I).
REQUIREMENT (3): The model . . . has been in existence for at least 3 years | The model is currently active and was first developed at least 3 years ago; | Social Security Act, Title V, § 511(d)(3)(A)(i)(I).
| OR
| The model is inactive and was first developed at least 3 years before a model developer stopped providing implementation support;
| OR
| The model was implemented as a demonstration project that lasted at least 3 years.
REQUIREMENT (4): The model . . . is research-based [and] grounded in relevant empirically-based knowledge | The model is evidence-based and grounded in relevant empirically-based knowledge, per the HHS HomVEE criteria for evidence of effectiveness | Social Security Act, Title V, § 511 (d)(3)(A)(i)(I).
REQUIREMENT (5): The model . . . has demonstrated significant . . . positive outcomes . . . when evaluated using well-designed and rigorous . . . research designs | The model has demonstrated significant positive outcomes when evaluated, per the HHS HomVEE criteria for evidence of effectiveness | Social Security Act, Title V, § 511 (d)(3)(A)(i)(I).
REQUIREMENT (6): The model [is] associated with a national organization or institution of higher education (IHE) . . . | The model was developed by, is currently supported by, OR is currently being evaluated by, a national organization ⁶ or IHE⁷ | Social Security Act, Title V, § 511 (d)(3)(A)(i)(I).
REQUIREMENT (7): The national organization or IHE with which the model is associated has comprehensive home visitation program standards that ensure high quality service delivery and continuous program quality improvement | This requirement is met if Requirement 6 is met AND (A) The organization or IHE can provide implementing agencies with documentation of its home visitation program standards associated with the model that ensure high quality service delivery (such as fidelity standards or implementation guidance); | Social Security Act, Title V, § 511 (d)(3)(A)(i)(I).
| AND
| (B) The model supports continuous program quality improvement (such as through the use of specific processes, systems, or tools).
REQUIREMENT (8): Employ well-trained and competent staff | (A) The model requires that home visiting staff, including home visitors and home visiting supervisors, receive pre- AND in-service training. Staff must include, at a minimum, home visitors and home visiting supervisors | Social Security Act, Title V, § 511(d)(3)(B)(ii).
| AND
| (B) The model establishes educational requirements and/or competencies around knowledge, skills, abilities, and experience to ensure that program staff are able to deliver the model.
REQUIREMENT (9): Maintain high quality supervision to establish home visitor competencies | (A) The model has quality supervisory requirements to establish and maintain home visitor competencies, including the mode and frequency of supervision; | Title V, § 511(d)(3)(B)(iii).
| AND
| (B) The model has a documented plan for supporting and assessing the quality of supervision.
REQUIREMENT (10): Demonstrate strong organizational capacity to implement the activities involved | The model has ongoing support to implement the model, including implementation tailored to the communities served | Title V, § 511(d)(3)(B)(iv).
REQUIREMENT (11): Establish appropriate linkages and referral networks to other community resources and supports for eligible families | The model has guidance OR a process to support local implementing agencies' ability to establish and document appropriate linkages and referrals to community resources and supports for eligible MIECHV program participants | Title V, § 511(d)(3)(B)(v).
REQUIREMENT (12): Monitor the fidelity of program implementation to ensure that services are delivered pursuant to the specified model | (A) The model has standards OR a system for monitoring fidelity of program implementation on an ongoing basis; AND | Title V, § 511(d)(3)(B)(vi).
| (B) The model provides training OR training materials for supervisors and home visitors on fidelity standards.

2.2 Information Collection and Timeline

⁶ A national organization may be in the United States (including tribal nations or within any of the U.S. territories) or non-U.S. based; an organization is “national” if it has an office that is able to support implementation in two or more states, tribes, territories, or regions, or similarly defined geographic areas outside of the United States.

⁷ An IHE may be an accredited community college, college, or university in the United States or another country.

HRSA, in collaboration with ACF, proposes to conduct model developer queries to gather information necessary for assessing models against the MIECHV Program statutory requirements. Requirements related to HHS evidence of effectiveness (see Section 2.1; requirements 1, 2, 4, and 5; above) are currently collected and assessed through the HomVEE annual review process; HRSA has concluded that this process is sufficient to assess these requirements and is not proposing any changes to the HomVEE evidence review through this notice.

Following the publication of this notice, the associated comment period, and publication of a final model eligibility review process, HRSA anticipates assessing all models that have been determined to meet the HHS criteria for evidence of effectiveness, as determined by HomVEE review, against the statutory requirements for model implementation through the MIECHV Program. HRSA intends to contact model developers and request they provide information about model characteristics, resources, and processes using a standard set of survey questions. HRSA will assess information and resources provided by models against the standards for each requirement, described above, to determine eligibility for implementation through the MIECHV Program. Following this initial review, all models determined to be eligible for implementation through the MIECHV Program will be reassessed against the statutory requirements for a model every 3 years.

As the HomVEE review determines that new models meet HHS criteria for evidence of effectiveness, HRSA intends to assess these models against the MIECHV statutory requirements. Any such model that does not meet statutory requirements for implementation through the MIECHV Program will be reassessed annually until the model either meets remaining statutory requirements or a model developer indicates that they no longer want the model to be assessed for implementation through the MIECHV program.

HRSA anticipates applying the updated process for assessing model eligibility against MIECHV statutory requirements beginning in Fiscal Year (FY) 2024. Specifically, the updated process will apply to all HomVEE-approved models to determine eligibility for implementation through the MIECHV Program beginning in the FY 2024 MIECHV Notice of Funding Opportunity.

3.0 Request for Information

Through this notice, HRSA is soliciting information from a broad array of stakeholders on the proposed process for assessing home visiting models against the MIECHV statutory requirements for a model to determine eligibility for implementation through the MIECHV Program.

Responses to this notice will inform HRSA's ongoing discussion with the aim of publishing a final process for assessing home visiting models against statutory requirements. This notice is for information and planning purposes only and should not be construed as a solicitation or as an obligation on the part of HRSA or HHS.

Diana Espinosa,
Acting Administrator.

[FR Doc. 2021-20853 Filed 9-24-21; 8:45 am]

BILLING CODE 4165-15-P